DEPARTMENT OF TRANSPORTATION

Pipeline and Hazardous Materials Safety Administration

[PHMSA-2018-0072]

Pipeline Safety: Information Collection Activities; Revision of the Hazardous Liquid Annual Report

AGENCY: Pipeline and Hazardous Materials Safety Administration (PHMSA), DOT.

ACTION: Notice and request for comments.

SUMMARY: On July 13, 2018, in accordance with the Paperwork Reduction Act of 1995, PHMSA published a notice in the Federal Register (83 FR 32710) inviting comments on a revision to form PHMSA F 7000-1.1—Annual Report for Hazardous Liquid Pipeline Systems, which is currently collected under the Office of Management and Budget (OMB) Control Number 2137-0614. This information collection expires on October 31, 2018.

During the public comment period, PHMSA received two comments in response to the proposed revision to this information collection. PHMSA is publishing this notice to respond to the comments received and to announce that the Information Collection Request will be submitted to OMB for approval.

DATES: Interested persons are invited to submit comments on or before November 21, 2018 to be assured of consideration.

FOR FURTHER INFORMATION CONTACT: Angela Dow by telephone at 202-366-1246, by email at angela.dow@dot.gov, by fax at 202-366-4566, or by mail at U.S. Department of Transportation, PHMSA, 1200 New Jersey Avenue SE, PHP-30, Washington, DC 20590-0001.

ADDRESSES: You may submit comments identified by the docket number PHMSA-2018-0072 by any of the following methods:

• Fax: 1-202-395-5806.

• Mail: Office of Information and Regulatory Affairs, Records Management Center, Room 10102 NEOB, 725 17th Street NW, Washington, DC 20503, ATTN: Desk Officer for the U.S. Department of Transportation\PHMSA.

• Email: Office of Information and Regulatory Affairs, OMB, at the following email address: OIRA_Submission@omb.eop.gov.

Requests for a copy of the Information Collection should be directed to Angela Dow by telephone at 202-366-1246, by fax at 202-366-4566, by email at angela.dow@dot.gov, or by mail at U.S. Department of Transportation, PHMSA, 1200 New Jersey Avenue SE, PHP-30, Washington, DC 20590-0001.

SUPPLEMENTARY INFORMATION:

Summary of Comments Received

During the 60-day comment period, PHMSA received a joint comment from American Petroleum Institute (API) and the Association of Oil Pipe Lines (AOPL) and a comment from the American Gas Association. Both comments emphasized the importance of PHMSA streamlining its data collection and entry processes.

American Petroleum Institute (API) and the Association of Oil Pipe Lines (AOPL) provided a joint comment recommending that PHMSA allow operators to submit annual report data through the National Pipeline Mapping System (NPMS). However, the NPMS does not currently include all of the pipeline attributes in the annual report. Additionally, PHMSA's proposal to add attributes to the NPMS through docket PHMSA-2014-0092 is not approved by the OMB and does not include attributes for barrel-miles transported, integrity inspections, or integrity assessments. For these reasons, operators need to continue to use Parts C, F, and G of the Annual Report.

API/AOPL are proposing that PHMSA remove Part M Breakout Tanks by state, interstate/intrastate and by size. PHMSA needs to collect data on breakout tanks since the public relies on PHMSA to provide this data. The state and interstate/intrastate status of the breakout tanks is required to determine whether PHMSA or a state pipeline safety partner regulates the tanks.

API/AOPL also recommended that PHMSA allow operators to submit annual report data to the PHMSA portal by way of Secure File Transfer Protocol (SFTP). PHMSA has invested significant effort in the data collection routine currently in use. Numerous validations have been built to ensure the consistency of data among various parts of the annual report. PHMSA lacks the resources to recreate these validations in an SFTP environment. If PHMSA were to provide an SFTP submittal option, it would be extremely difficult to incorporate future changes. If the annual report were to change in the future, PHMSA would have to modify the existing data collection routine and the SFTP process.

The American Gas Association (AGA) submitted a comment in support of the joint comment submitted by API/AOPL.

Section 1320.8(d), Title 5, Code of Federal Regulations, requires PHMSA to provide interested members of the public and affected agencies an opportunity to comment on information collection and recordkeeping requests. This notice identifies an information collection request that PHMSA will submit to OMB for revision. The following information is provided for this information collection: (1) Title of the information collection; (2) OMB control number; (3) Current expiration date; (4) Type of request; (5) Abstract of the information collection activity; (6) Description of affected public; (7) Estimate of total annual reporting and recordkeeping burden; and (8) Frequency of collection. PHMSA will request a three-year term of approval for this information collection activity. PHMSA requests comments on the following information collection:

Title: Reporting Requirements for Hazardous Liquid Pipeline Operators: Hazardous Liquid Annual Report.

OMB Control Number: 2137-0614.

Current Expiration Date: 10/31/2018.

Type of Request: Revision.

Abstract: Each operator must annually complete and submit Form PHMSA F 7000-1.1 for each type of hazardous liquid pipeline facility operated at the end of the previous year, as required by 49 CFR 195.49. This Annual Report for Hazardous Liquid Pipeline Systems is required to be filed by June 15 of each year for the preceding calendar year. On the Annual Report form, PHMSA collects data concerning the number of miles of pipeline each operator has and other characteristics of each pipeline system. PHMSA also collects information on the number of anomalies identified and repaired using various types of pipe inspection and assessment methods.

Affected Public: Hazardous liquid pipeline operators.

Annual Reporting and Recordkeeping Burden:

Total Annual Responses: 447.

Total Annual Burden Hours: 8,457.

Frequency of collection: Annually.

Comments are invited on:

(a) The need for the proposed collection of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Authority: The Paperwork Reduction Act of 1995; 44 U.S.C. Chapter 35, as amended; and 49 CFR 1.48.

Issued in Washington, DC, on October 17, 2018, under authority delegated in 49 CFR 1.97.
John A. Gale,
Director, Office of Standards and Rulemaking.

[FR Doc. 2018-22989 Filed 10-19-18; 8:45 am]

BILLING CODE 4910-60-P